DEPARTMENT OF TRANSPORTATION

Federal Aviation Administration

14 CFR Part 97

[Docket No. 30749; Amdt. No. 3396]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 27, 2010. The compliance date for each SIAP, associated Takeoff Minimums, and ODP is specified in the amendatory provisions.

The incorporation by reference of certain publications listed in the regulations is approved by the Director of the Federal Register as of October 27, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866;(2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 15, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 18 NOV 2010

Platinum, AK, Platinum, RNAV (GPS) RWY 14, Amdt 1

St. Paul Island, AK, St. Paul Island, ILS OR LOC/DME RWY 36, Amdt 3

St. Paul Island, AK, St. Paul Island, LOC/DME BC RWY 18, Amdt 4

St. Paul Island, AK, St. Paul Island, RNAV (GPS) RWY 18, Amdt 2

St. Paul Island, AK, St. Paul Island, RNAV (GPS) RWY 36, Amdt 1

St. Paul Island, AK, St. Paul Island, Takeoff Minimums and Obstacle DP, Amdt 3

Glendale, AZ, Glendale Muni, RNAV (GPS) RWY 19, Amdt 2

Concord, CA, Buchanan, VOR RWY 19R, Amdt 13

Davis/Woodland/Winters, CA, Yolo County, RNAV (GPS) RWY 16, Amdt 1

Davis/Woodland/Winters, CA, Yolo County, RNAV (GPS) RWY 34, Amdt 1

Lodi, CA, Lodi, Takeoff Minimums and Obstacle DP, Amdt 2

Sacramento, CA, Sacramento Mather, RNAV (GPS) RWY 22L, Amdt 1

San Jose, CA, Norman Y. Mineta San Jose Intl, RNAV (RNP) Z RWY 30R, Orig-A

Saipan Island, CQ, Francisco C. Ada/Saipan Island, NDB RWY 7, Amdt 5

Miami, FL, Miami Intl, Takeoff Minimums and Obstacle DP, Amdt 17

Winter Haven, FL, Winter Haven's Gilbert, VOR/DME-A, Amdt 7

Perry, GA, Perry-Houston County, ILS OR LOC RWY 36, Orig

Perry, GA, Perry-Houston County, LOC RWY 36, Amdt 1, CANCELLED

Perry, GA, Perry-Houston County, RNAV (GPS) RWY 36, Amdt 1

Pine Mountain, GA, Harris County, NDB RWY 9, Amdt 9

Pine Mountain, GA, Harris County, Takeoff Minimums and Obstacle DP, Amdt 1

Winterset, IA, Winterset Muni, Takeoff Minimums and Obstacle DP, Amdt 2

New Orleans, LA, Lakefront, ILS OR LOC RWY 18R, Amdt 1

New Orleans, LA, Lakefront, RNAV (GPS) RWY 18R, Amdt 2

Raleigh/Durham, NC, Raleigh-Durham Intl, RNAV (RNP) Z RWY 5L, Amdt 1

Raleigh/Durham, NC, Raleigh-Durham Intl, RNAV (RNP) Z RWY 5R, Amdt 1

Raleigh/Durham, NC, Raleigh-Durham Intl, RNAV (RNP) Z RWY 23L, Amdt 1

Raleigh/Durham, NC, Raleigh-Durham Intl, RNAV (RNP) Z RWY 23R, Amdt 1

Akron, OH, Akron-Canton Rgnl, Takeoff Minimums and Obstacle DP, Amdt 6

Bluffton, OH, Bluffton, RNAV (GPS) RWY 23, Orig-A

Bluffton, OH, Bluffton, VOR RWY 23, Amdt 7A

Baker City, OR, Baker City Muni, Takeoff Minimums and Obstacle DP, Amdt 2

Medford, OR, Rogue Valley Intl-Medford, RNAV (RNP) RWY 32, Orig

Portland, OR, Portland Intl, ILS OR LOC RWY 10R, ILS RWY 10R (SA CAT I), ILS RWY 10R (CAT II), ILS RWY 10R (CAT III), Amdt 33A

Hondo, TX, Hondo Muni, Takeoff Minimums and Obstacle DP, Orig

Lancaster, TX, Lancaster Rgnl, NDB RWY 31, Amdt 3

Lancaster, TX, Lancaster Rgnl, RNAV (GPS) RWY 31, Amdt 1

Victoria, TX, Victoria Rgnl, ILS OR LOC/DME RWY 12L, Amdt 11

Fillmore, UT, Fillmore Muni, RNAV (GPS) RWY 4, Orig

Fillmore, UT, Fillmore Muni, RNAV (GPS) RWY 22, Orig

Fillmore, UT, Fillmore Muni, Takeoff Minimums and Obstacle DP, Orig

Price, UT, Carbon County Rgnl/Buck Davis Field, ILS OR LOC/DME RWY 36, Orig-A

Pasco, WA, Tri-Cities, ILS OR LOC/DME RWY 21R, Amdt 12

Pasco, WA, Tri-Cities, RNAV (GPS) RWY 3L, Amdt 1

Pasco, WA, Tri-Cities, RNAV (GPS) RWY 12, Amdt 1

Pasco, WA, Tri-Cities, RNAV (GPS) RWY 21R, Amdt 1

Pasco, WA, Tri-Cities, RNAV (GPS) RWY 30, Amdt 2

Pasco, WA, Tri-Cities, VOR/DME RWY 21R, Amdt 6

Pasco, WA, Tri-Cities, VOR/DME RWY 30, Amdt 4

Richland, WA, Richland, RNAV (GPS) RWY 26, Amdt 1

Seattle, WA, Boeing Field/King County Intl, ILS RWY 13R, Amdt 30

Spokane, WA, Spokane Intl, ILS OR LOC RWY 3, ILS RWY 3 (SA CAT I), ILS RWY 3 (CAT II), ILS RWY 3 (CAT III), Amdt 6

Spokane, WA, Spokane Intl, RNAV (GPS) Y RWY 3, Amdt 2

Spokane, WA, Spokane Intl, RNAV (GPS) Y RWY 7, Amdt 2

Spokane, WA, Spokane Intl, RNAV (GPS) Y RWY 21, Amdt 1

Spokane, WA, Spokane Intl, RNAV (GPS) Y RWY 25, Amdt 3

Spokane, WA, Spokane Intl, VOR RWY 3, Amdt 13

On September 15, 2010 (75 FR 178) the FAA published an Amendment in Docket No. 30743, Amdt 3390 to Part 97 of the Federal Aviation Regulations under section 97.23 and 97.33. The following entries that were effective November 18, 2010, are changed to effective December 16, 2010:

Fort Lauderdale, FL, Fort Lauderdale/Hollywood Intl, ILS OR LOC RWY 9L, Amdt 21

Fort Lauderdale, FL, Fort Lauderdale/Hollywood Intl, ILS OR LOC RWY 27R, Amdt 9

Fort Lauderdale, FL, Fort Lauderdale/Hollywood Intl, LOC RWY 9R, Amdt 5

Fort Lauderdale, FL, Fort Lauderdale/Hollywood Intl, LOC/DME RWY 13, Amdt 1

[FR Doc. 2010-26949 Filed 10-26-10; 8:45 am]

BILLING CODE 4910-13-P